DEPARTMENT OF HEALTH AND HUMAN SERVICES

Centers for Disease Control and Prevention

[60-Day-23-23HM; Docket No. CDC-2023-0071]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Assessing Fatigue and Fatigue Management in U.S. Onshore Oil and Gas Extraction. This study is designed to examine oil and gas extraction workers' determinants of fatigue and fatigue mitigation strategies.

DATES: CDC must receive written comments on or before October 20, 2023.

ADDRESSES: You may submit comments, identified by Docket No. CDC-2023-0071 by either of the following methods:

• Federal eRulemaking Portal: www.regulations.gov. Follow the instructions for submitting comments.

• Mail: Jeffrey M. Zirger, Information Collection Review Office, Centers for Disease Control and Prevention, 1600 Clifton Road NE, MS-H21-8, Atlanta, Georgia 30329.

• Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessing Fatigue and Fatigue Management in U.S. Onshore Oil and Gas Extraction—New—National Institute for Occupational Safety and Health (NIOSH), Centers for Disease Control and Prevention (CDC).

Background and Brief Description

Oil and gas extraction (OGE) workers play an important role in supporting the United States economy and help fulfill the energy needs of Americans and American businesses. OGE workers have significant risks for a variety of exposures at oil and gas well sites. There has been no significant fatigue research in the United States onshore upstream OGE sector. This proposed project will characterize relationships between sleep, alertness, fatigue, fatigue management, and related factors, within the onshore OGE industry. Primary data will be collected using three approaches. First, researchers will collect direct measurements of sleep and alertness among OGE workers. Second, researchers will use questionnaires to collect information on OGE worker demographics, occupation, general heath, normal working hours, commute times, physical sleeping environment, and typical sleep quality. Third, researchers will collect qualitative information through interviews with workers, front-line supervisors, health and safety leaders, as well as subject matter experts, to understand challenges and opportunities related to fatigue management in OGE.

CDC requests OMB approval for an estimated 404 annual burden hours. There is no cost to respondents other than their time to participate.

Estimated Annualized Burden Hours
Type of respondents | Form name | Number of respondents | Number of responses per respondent | Average burden per response (in hours) | Total burden (in hours)
Land-based OGE workers | Baseline Questionnaire | 80 | 1 | 15/60 | 20
Land-based OGE workers | Daily Pre-Shift Questionnaires | 80 | 14 | 3/60 | 56
Land-based OGE workers | Daily Post-Shift Questionnaires | 80 | 14 | 3/60 | 56
Land-based OGE workers | Psychomotor Vigilance Test (PVT) | 80 | 28 | 5/60 | 187
Land-based OGE workers | Actigraphy | 80 | 1 | 15/60 | 20
Land-based OGE workers | Worker Interview Guide | 30 | 1 | 1.5 | 45
Field-level Supervisors | Manager Interview Guide | 10 | 1 | 1 | 10
Health and Safety Leaders | HSE Interview Guide | 7 | 1 | 1 | 7
Subject Matter Experts | SME Interview Guide | 3 | 1 | 1 | 3
Total |  |  |  |  | 404

Jeffrey M. Zirger,
Lead, Information Collection Review Office, Office of Public Health Ethics and Regulations, Office of Science, Centers for Disease Control and Prevention.

[FR Doc. 2023-17922 Filed 8-18-23; 8:45 am]

BILLING CODE 4163-18-P